DEPARTMENT OF HOMELAND SECURITY

Coast Guard

[USCG-2003-16297]

National Preparedness for Response Exercise Program (PREP)

AGENCY: Coast Guard, DHS.

ACTION: Notice; revision to PREP triennial exercise schedule for 2004, 2005, and 2006; request for public comment; correction to prior notice.

SUMMARY: On October 16, 2003, the Coast Guard—on behalf of the Coast Guard, the Research and Special Programs Administration, the Environmental Protection Agency and the Minerals Management Service—published the Preparedness for Response Exercise Program (PREP) triennial exercise schedule for 2004 through 2006. This notice revises that schedule based on internal agency input, requests comments from the public, and requests industry participants to volunteer for scheduled PREP Area exercises.

DATES: Comments and related material must reach the Docket Management Facility on or before March 8, 2004.

ADDRESSES: You may submit comments identified by Coast Guard docket number USCG-2003-16297 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, or need general information regarding the PREP Program and the schedule, contact Mr. Robert Pond, Office of Response, Plans and Preparedness Division (G-MOR-2), U.S. Coast Guard Headquarters, telephone 202-267-6603, fax 202-267-4065 or e-mail rpond@comdt.uscg.mil. If you have questions on viewing or submitting material to the docket, call Ms. Andrea M. Jenkins, Program Manager, Docket Operations, telephone 202-366-0271.

SUPPLEMENTARY INFORMATION: The Preparedness for Response Exercise Program (PREP) Area exercise schedule and exercise design manuals are available on the Internet at http://www.uscg.mil/hq/nsfweb/nsfcc/prep/index.html. To obtain a hard copy of the exercise design manual, contact Ms. Melanie Barber at the Research and Special Programs Administration, Office of Pipeline Safety, at 202-366-4560. The 2002 PREP Guidelines booklet is available at no cost on the Internet at http://www.uscg.mil/hq/nsfweb/nsfcc/prep/index.html or by writing or faxing the TASC DEPT Warehouse, 33141Q 75th Avenue, Landover, MD 20785, facsimile: 301-386-5394. The stock number of the manual is USCG-X0241. Please indicate the quantity when ordering. Quantities are limited to 10 per order.

Public Participation and Request for Comments

We encourage you to respond to this notice by submitting comments and related materials. All comments received will be posted, without change, to http://dms.dot.gov and will include any personal information you have provided. We have an agreement with the Department of Transportation (DOT) to use the Docket Management Facility. Please see DOT's “Privacy Act” three paragraphs below.

Submitting comments: If you submit a comment, please include your name and address, identify the docket number for this notice (USCG-2003-16297), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this triennial exercise schedule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Revisions to the October 2003 Notice

On October 16, 2003, the Coast Guard published a notice in the Federal Register (68 FR 59627) announcing the PREP triennial exercise schedule for 2004, 2005, and 2006. We are making several revisions to the triennial exercise schedule in that notice based on internal agency input. A summary of the changes follows—

For Government-Led Area Exercises for Calendar Year 2004, we changed Guam from 1st to 4th Quarter, changed Prince William Sound from 4th to 3rd Quarter, and added EPA Region I to 4th Quarter. For Industry-Led Area Exercises for Calendar Year 2004, we changed Maryland Coastal from 2nd to 4th Quarter, and added a footnote for Charleston, SC, and Duluth-Superior to indicate “credit for response in lieu of exercise.”

This notice announces the revised triennial schedule of Area exercises. If a company wants to volunteer for an Area exercise, a company representative may call either the Coast Guard or EPA On-Scene Coordinator (OSC) where the exercise is scheduled.

The table below is the revised PREP schedule for the calendar years 2004, 2005, and 2006.

Table—Prep Schedule—Government-Led Area Exercises
Area | Agency | Qtr ¹ | Participant
CALENDAR YEAR 2004
Los Angeles/Long Beach South (Marine Safety Office (MSO) LA/LB), SONS ² | CG | 2
San Diego (MSO San Diego), SONS ² | CG | 2
Prince William Sound (MSO Valdez) | CG | 3
Guam (MSO Guam) | CG | 4
Region I Regional Contingency Plan (RCP) (EPA Region I) | EPA | 4
CALENDAR YEAR 2005
Houston-Galveston (MSO Houston) | CG | 1
Virginia Coastal (MSO Hampton Road) | CG | 1
Alabama-Mississippi (MSO Mobile) | CG | 2
Providence (MSO Providence) | CG | 3
Western Alaska (MSO Anchorage) | CG | 3
Region V RCP (EPA Region V) | EPA | 4
CALENDAR YEAR 2006
Cleveland, OH (MSO Cleveland) | CG | 1
Jacksonville, FL (MSO Jacksonville) | CG | 2
To Be Determined | CG | 2
Northwest Area-Portland (MSO Portland) | CG | 3
Region IX RCP or Oceania (EPA Region IX) | EPA | 3
New Orleans, LA (MSO New Orleans) | CG | 4

Prep Schedule—Industry-Led Area Exercises
Area | Qtr ¹ | Participant
CALENDAR YEAR 2004
Chicago, IL (MSO Chicago) | 2
Long Island Sound (MSO Long Island) | 2
San Francisco Bay (MSO San Francisco) | 2
South Texas Coast (MSO Corpus Christi) | 2
Charleston, SC (MSO Charleston) | ³ 3
Morgan City, LA (MSO Morgan City) | 3
New York, NY (Activities NY) | 3
Savannah, GA (MSO Savannah) | 3
Duluth-Superior (MSO Duluth) | ³ 4
Maryland Coastal (MSO Baltimore) | 4
Eastern Wisconsin (MSO Milwaukee) | 4
Northwest-Puget Sound (MSO Puget Sound) | 4
Region VII RCP (EPA Region VII) | 4
CALENDAR YEAR 2005
Detroit, MI (MSO Detroit) | 1
Region VIII (EPA Region VIII) | 1
Boston (MSO Boston) | 2
Hawaiian Islands (MSO Honolulu) | 2
South Florida (MSO Miami) | 2
South Los Angeles/Long Beach, CA (MSO LA/LB) | 2
S. North Carolina (MSO Wilmington) | 3
SW La./SE Texas (MSO Port Arthur) | 3
Tampa, FL (MSO Tampa) | 3
Region X or EPA Alaska RCP (EPA Region X) | 4
Sault Ste. Marie, MI (MSO Sault Ste. Marie) | 4
CALENDAR YEAR 2006
Florida Panhandle (MSO Mobile) | 1
SE Alaska (MSO Juneau) | 1
Buffalo (MSO Buffalo) | 2
Maine-New Hampshire (MSO Portland, ME) | 2
Philadelphia, PA (MSO Philadelphia) | 2
Region II RCP or Caribbean (EPA Region II) | 2
North Coast (CA) Area (MSO San Francisco) | 3
Region III RCP (EPA Region III) | 3
Region VI RCP (EPA Region VI) | 3
Caribbean Area (MSO San Juan) | 4
Northern Marianas (MSO Guam) | 4
Western Lake Erie (MSO Toledo) | 4
¹ Quarters: 1 (January-March); 2 (April-June); 3 (July-September); 4 (October-December).
² SONS: 2004 Spill of National Significance Exercise.
³ Note: Credit for response in lieu of exercise.

In the first paragraph of the SUPPLEMENTARY INFORMATION section of the October 16, 2003 notice, we erroneously referred to the 2003 PREP Guidelines booklet. The latest edition available is the 2002 PREP Guidelines booklet.

Correction

In the Federal Register of October 16, 2003, in FR Doc. 03-26129, on page 59628, in the first sentence of the second column, correct “2003” to read “2002”.

Dated: January 30, 2004.
Joseph J. Angelo,
Director of Standards, Marine Safety, Security & Environmental Protection.

[FR Doc. 04-2507 Filed 2-4-04; 8:45 am]

BILLING CODE 4910-15-P